SECURITIES AND EXCHANGE COMMISSION

Proposed Collection; Comment Request

Upon written request, copies available from: Securities and Exchange Commission, Office of Filings and Information Services, Washington, DC 20549.

Extension:

Form 10-QSB; OMB Control No. 3235-0416; SEC File No. 270-369.

Notice is hereby given that pursuant to the Paperwork Reduction Act of 1995 (44 U.S.C. 3501 et seq.) the Securities and Exchange Commission (“Commission”) is soliciting comments on this collection of information summarized below. The Commission plans to submit this existing collection of information to the Office of Management Budget for approval.

Form 10-QSB (17 CFR 249.308b) is a quarterly report form that is available to “small business issuers” as defined by regulations under the Securities Exchange Act 1934 (“Exchange Act”) (15 U.S.C. 78a et seq.), and is used by such issuers to satisfy their quarterly reporting obligations pursuant to Section 13 and Section 15(d) of the Exchange Act (15 U.S.C. 78m and 78o(d)). Form 10-QSB provides a comprehensive overview of the small business issuer's business, although its requirements call for slightly less detailed information than required by Form 10-Q (17 CFR 249.308a). Form 10-QSB takes approximately 182 hours per response to prepare and is filed by 4,066 respondents three times a year for a total of 12,198 responses. We estimate that 75% of the 182 hours per response (136.5 hours) is prepared by the company for a total annual reporting burden of 1,665,027 hours (136.5 hours per response × 12,198 responses).

Written comments are invited on: (a) Whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Securities and Exchange Commission, c/o Shirley Martinson 6432 General Green Way, Alexandria, VA 22312; or send an e-mail to: PRA_Mailbox@sec.gov.

December 28, 2006.
Jill M. Peterson,
Assistant Secretary.

[FR Doc. E6-22662 Filed 1-5-07; 8:45 am]

BILLING CODE 8011-01-P